FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than May 10, 2021.

A. Federal Reserve Bank of Kansas City (Porcia Block, Vice President) 1 Memorial Drive, Kansas City, Missouri 64198-0001:

1. Michael Quintana, Las Vegas, New Mexico; to acquire voting shares of FNB Financial Corporation, and thereby indirectly acquire voting shares of Community 1st Bank Las Vegas, both of Las Vegas, New Mexico.

2. The John B. and Lois J. Eberly Real Estate Trust, John B. Eberly and Lois J. Eberly, as co-trustees, all of Stanton, Nebraska; to retain voting shares of Eberly Investment Co., and thereby indirectly retain voting shares of the Stanton State Bank, both of Stanton, Nebraska. Additionally, the John B. and Lois J. Eberly Real Estate Trust, Lois J. Eberly and Louise G. Eberly, to retain voting shares of Eberly Investment Co. as members of the Eberly Family Group, a group acting in concert, and thereby indirectly retain voting shares of the Stanton State Bank.

B. Federal Reserve Bank of Chicago (Colette A. Fried, Assistant Vice President) 230 South LaSalle Street, Chicago, Illinois 60690-1414:

1. The Lenore Madden Family Trust, the Lenore Madden Marital Trust, the John R. Madden Revocable Trust, and John R. Madden, individually, and as trustee of the aforementioned trusts, the John R. Madden Trust fbo Grace H. Hayes, the John R. Madden Trust fbo Lenore M. Hayes, the John R. Madden Trust fbo Molly M. Hayes, and Mary Hayes, individually, and as trustee of the aforementioned trusts, all of LaGrange, Illinois; the Edward J. Madden Declaration of Trust, Chicago, Illinois, the John R. Madden Trust fbo Minor Child 1, the John R. Madden Trust fbo Minor Child 2, the John R. Madden Trust fbo Minor Child 3, and the John R. Madden Trust fbo Minor Child 4, all of LaGrange, Illinois; Edward J. Madden, as trustee of the aforementioned trusts, Evanston, Illinois; the Lenore M. McCarter Trust, the John R. Madden Trust fbo Edward McCarter, the John R. Madden Trust fbo Anne L. McCarter, the John R. Madden Trust fbo Francis M. McCarter, and Lenore M. McCarter, as trustee of the aforementioned trusts, all of LaGrange, Illinois; the John R. Madden Trust fbo John Rodgers Madden, the John R. Madden Trust fbo Kevin J. Madden, the John R. Madden Trust fbo Clare E. Madden, the John R. Madden Trust fbo Nora C. Madden, and John J. Madden, individually, and as trustee of the aforementioned trusts, all of LaGrange, Illinois; Catherine J. Madden, the Martin P. Madden Trust, the John R. Madden Trust fbo Joseph Madden, the John R. Madden Trust fbo Elizabeth Madden, the John R. Madden Trust fbo Minor Child 5, and Martin P. Madden, as trustee of the aforementioned trusts, all of LaGrange, Illinois; to join the Madden Family Control Group, a group acting in concert, to retain voting shares of F.N.B.C. of LaGrange, Inc., and thereby indirectly retain voting shares of FNBC Bank and Trust, both of LaGrange, Illinois.

Board of Governors of the Federal Reserve System, April 20, 2021.
Michele Taylor Fennell,
Deputy Associate Secretary of the Board.

[FR Doc. 2021-08543 Filed 4-22-21; 8:45 am]

BILLING CODE P